DEPARTMENT OF COMMERCE

National Oceanic and Atmospheric Administration

RIN 0648-XE078

Presidential Task Force on Combating Illegal Unreported and Unregulated (IUU) Fishing and Seafood Fraud Action Plan; Extension of Comment Period

AGENCY: National Marine Fisheries Service (NMFS), National Oceanic and Atmospheric Administration (NOAA), Commerce.

ACTION: Notice; request for comments; extension of comment period.

SUMMARY: The National Ocean Council Committee on IUU Fishing and Seafood Fraud (NOC Committee) extends the comment period from September 2, 2015, to September 11, 2015, on the notice, which published August 3, 2015, seeking public input on draft principles for determining seafood species at risk of IUU fishing and seafood fraud (“at risk”) and a draft list of “at risk” species developed using the draft principles. The comment period is being extended in order to provide further opportunity for the public to review and provide thoughtful comment.

DATES: The deadline for written comments on the notice published on August 3, 2015 (80 FR 45955) is extended from September 2, 2015, to September 11, 2015.

ADDRESSES: You may submit comments on this document, identified by NOAA-NMFS-2014-0090, by any of the following methods:

• Electronic Submission: Submit all electronic public comments via the Federal e-Rulemaking Portal. Go to www.regulations.gov/#!docketDetail;D=NOAA-NMFS-2014-0090, click the “Comment Now!” icon, complete the required fields, and enter or attach your comments.

• Mail: Submit written comments to Danielle Rioux, 1315 East-West Highway; Silver Spring, Maryland 20910.

• Webinar: A webinar will be held on August 25th, 3:30-5 p.m. Eastern time. Please go to http://www.nmfs.noaa.gov/ia/iuu/taskforce.html for information on how to join.

Instructions: Comments sent by any other method, to any other address or individual, or received after the end of the comment period, may not be considered by the Working Group. All comments received are a part of the public record and will generally be posted for public viewing on www.regulations.gov without change. All personal identifying information (e.g., name, address, etc.), confidential business information, or otherwise sensitive information submitted voluntarily by the sender will be publicly accessible. The Working Group will accept anonymous comments (enter “N/A” in the required fields if you wish to remain anonymous).

FOR FURTHER INFORMATION CONTACT: Danielle Rioux, Office of Sustainable Fisheries, National Marine Fisheries Service (phone 301-427-8516, or email Danielle.Rioux@noaa.gov).

SUPPLEMENTARY INFORMATION:

Background

According to NOAA, in 2013, U.S. fishers landed 9.9 billion pounds of fish and shellfish worth $5.5 billion. Illegal, unreported, and unregulated (IUU) fishing and seafood fraud undermine the sustainability of U.S. and global seafood stocks and negatively impact general ecosystem health. At the same time, IUU fishing and fraudulent seafood products distort legal markets and unfairly compete with the products of law-abiding fishers and seafood industries. On March 15, 2015, the Presidential Task Force on Combating IUU Fishing and Seafood Fraud (Task Force), co-chaired by the Departments of Commerce and State, took an historic step to address these issues and published its Action Plan for Implementing Task Force Recommendations (Action Plan).

The Action Plan (http://www.nmfs.noaa.gov/ia/iuu/noaa_taskforce_report_final.pdf) articulates the proactive steps that Federal agencies will take to implement the recommendations the Task Force made to the President in December 2014 on a comprehensive framework of integrated programs to combat IUU fishing and seafood fraud. The Action Plan identifies actions that will strengthen enforcement, create and expand partnerships with state and local governments, industry, and non-governmental organizations, and create a risk-based traceability program to track seafood from harvest to entry into U.S. commerce, including through the use of existing traceability mechanisms. The work the Task Force began continues under the oversight of the National Ocean Council's Committee on IUU Fishing and Seafood Fraud (NOC Committee), established this past April, 2015.

The notice published on August 3, 2015, (80 FR 45955) is one of several steps in the plan to implement Task Force Recommendations 14 and 15, identifying “species of fish or seafood that are presently of particular concern because they are currently subject to significant seafood fraud or because they are at significant risk of being caught by IUU fishing.” To begin implementing these recommendations, the NOC Committee created a Working Group (Working Group), led by NOAA and composed of members from partner agencies: Department of State, Food and Drug Administration, Department of Homeland Security, Customs and Border Protection, and the Office of the U.S. Trade Representative.

Extension of Comment Period

We initially requested comments by September 2, 2015. In order to provide further opportunity for the public to review and provide thoughtful comment, NMFS is extending the comment period on the notice—that published August 3, 2015 (80 FR 45955)—until September 11, 2015.

Dated: August 13, 2015.
Eileen Sobeck,
Assistant Administrator for Fisheries, National Marine Fisheries Service.

[FR Doc. 2015-20434 Filed 8-18-15; 8:45 am]

BILLING CODE 3510-22-P